DEPARTMENT OF TRANSPORTATION

Federal Aviation Administration

14 CFR Part 39

[Docket No. FAA-2005-21716; Directorate Identifier 2005-NM-080-AD; Amendment 39-14418; AD 2005-25-25]

RIN 2120-AA64

Airworthiness Directives; Boeing Model 767-200, -300, and -300F Series Airplanes

AGENCY: Federal Aviation Administration (FAA), Department of Transportation (DOT).

ACTION: Final rule.

SUMMARY: The FAA is adopting a new airworthiness directive (AD) for certain Boeing Model 767-200, -300, and -300F series airplanes. This AD requires replacing the aileron control override quadrant with a modified unit. This AD results from a report of the seizing of the input override mechanism bearings of the lateral central control actuator on affected airplanes. We are issuing this AD to prevent corrosion of the input override mechanism bearings of the lateral central control actuator, which, in the event of a subsequent jam in the pilot's aileron control system, could result in failure of the aileron override system and consequent reduced lateral controllability of the airplane.

DATES: This AD becomes effective January 20, 2006.

The Director of the Federal Register approved the incorporation by reference of certain publications listed in the AD as of January 20, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Douglas Tsuji, Aerospace Engineer, Systems and Equipment Branch, ANM-130S, FAA, Seattle Aircraft Certification Office, 1601 Lind Avenue, SW., Renton, Washington 98055-4056; telephone (425) 917-6487; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 767-200, -300, and -300F series airplanes. That NPRM was published in the Federal Register on July 6, 2005 (70 FR 38819). That NPRM proposed to require replacing the aileron control override quadrant with a modified unit.

Comments

We provided the public the opportunity to participate in the development of this AD. We have considered the comments received.

Support for the Proposed AD

Two commenters express support for the proposed AD.

Request To Extend Compliance Time

One commenter, an airplane operator, requests that the proposed compliance time for replacing the aileron control override quadrant be extended from 18 months after the effective date of the AD to 21 months after the effective date of the AD. The commenter states that the 18-month compliance time will create undue economic hardship because it's “C” check interval has been extended to 21 months.

We do not agree with the commenter's request to extend the compliance time. In developing an appropriate compliance time for this action we considered the urgency associated with the subject unsafe condition, and the practical aspect of accomplishing the required modification within a period of time that corresponds to the normal scheduled maintenance for most affected operators. Since maintenance schedules vary from operator to operator, it is not possible to guarantee that all affected airplanes could be modified during scheduled maintenance, even if we extended the compliance time to 21 months. We find that an 18-month compliance time represents the maximum time in which the affected airplanes may continue to operate without compromising safety. We also note that economic hardship is not sufficient rationale for demonstrating that an extended compliance time would provide an acceptable level of safety. However, according to the provisions of paragraph (h) of the final rule, we may approve requests to adjust the compliance time if the request includes data to substantiate that the new compliance time would provide an acceptable level of safety. No change to the final rule is necessary.

Request To Correct Wording in “Relevant Service Information” Section

One commenter notes that the “Relevant Service Information” section of the proposed AD should be corrected to state that Revision 1 of Boeing Alert Service Bulletin 767-27A0175, dated June 3, 2004, increased the effectivity rather than Revision 2, of Boeing Service Bulletin 767-27A0175, dated August 5, 2004, as is currently stated in that section. The commenter points out that Revision 1 of the alert service bulletin increased the applicability and that this applicability was continued in Revision 2 of the service bulletin.

We partially agree with the commenter. We agree that the additional airplanes (line number 837 through 918) were added to Revision 1 rather than Revision 2 of the service bulletin, and we have revised paragraphs (f) and (i) of the final rule accordingly. However, since the “Relevant Service Information” section of the preamble does not reappear in the final rule, we have not revised that section.

Request To Revise Cost Estimate

One commenter disagrees with the projected costs to accomplish the proposed replacement of the aileron control override quadrant. The commenter states that its actual costs to do the replacement have been $1,068 per airplane rather than $796, which was the cost proposed in the NPRM.

We infer that the commenter would like the cost estimate to be revised to closer reflect its actual costs. We acknowledge the commenter's concerns, but disagree with revising the cost estimate. Although the operator has tracked its own costs based on data it kept when accomplishing related AD 2003-15-03, amendment 39-13245 (68 FR 44197, July 28, 2003), the commenter does not state how the additional costs were accrued (e.g., additional labor, parts, etc.). We acknowledge that the costs associated with doing the required actions can vary depending on if the operator chooses to replace the existing override quadrant assembly, or if it chooses to overhaul the existing override quadrant by installing new corrosion resistant steel bearings. In addition, we recognize that in accomplishing the requirements of any AD, operators may incur “incidental” costs in addition to the “direct” costs that are reflected in the cost analysis presented in the AD preamble. However, the cost analysis in AD rulemaking actions typically does not include incidental costs, but only the costs of the specific actions required by the AD action.

We have not revised the final rule in this regard.

Clarification of Alternative Method of Compliance (AMOC) Paragraph

We have revised this action to clarify the appropriate procedure for notifying the principal inspector before using any approved AMOC on any airplane to which the AMOC applies.

Explanation of Editorial Change

We have revised the cost estimate to correct the number of airplanes in the worldwide fleet. The NPRM stated that the number is 127 airplanes; the final rule states that the number is 82 airplanes.

Conclusion

We have carefully reviewed the available data, including the comments received, and determined that air safety and the public interest require adopting the AD with the changes described previously. We have determined that these changes will neither increase the economic burden on any operator nor increase the scope of the AD.

Costs of Compliance

There are about 82 airplanes of the affected design in the worldwide fleet. This proposed AD affects about 45 airplanes of U.S. registry. The actions will take about 10 work hours per airplane, at an average labor rate of $65 per work hour. Required parts cost about $146 per airplane. Based on these figures, the estimated cost of this AD for U.S. operators is $35,820, or $796 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-25-25 Boeing: Amendment 39-14418. Docket No. FAA-2005-21716; Directorate Identifier 2005-NM-080-AD.

Effective Date

(a) This AD becomes effective January 20, 2006.

Affected ADs

(b) This AD is related to AD 2003-15-03, amendment 39-13245. AD 2003-15-03 is applicable to Boeing Model 767-200, -300, and -300F series airplanes, certificated in any category, line numbers (L/Ns) 1 through 836 inclusive.

Applicability

(c) This AD applies to Boeing Model 767-200, -300, and -300F series airplanes, certificated in any category, L/Ns 837 through 918 inclusive.

Unsafe Condition

(d) This AD was prompted by a report of the seizing of the input override mechanism bearings of the lateral central control actuator on affected airplanes. We are issuing this AD to prevent corrosion of the input override mechanism bearings of the lateral central control actuator, which, in the event of a subsequent jam in the pilot's aileron control system, could result in failure of the aileron override system and consequent reduced lateral controllability of the airplane.

Compliance

(e) You are responsible for having the actions required by this AD performed within the compliance times specified, unless the actions have already been done.

Replacement

(f) Within 18 months after the effective date of this AD, replace the aileron control override quadrant with a modified unit, in accordance with the Accomplishment Instructions of Boeing Alert Service Bulletin 767-27A0175, Revision 1, dated June 3, 2004; or Boeing Service Bulletin 767-27A0175, Revision 2, dated August 5, 2004.

Note 1: This AD does not require accomplishing the actions specified by Step 5 of Figure 2 of Boeing Alert Service Bulletin 767-27A0175, Revision 1, or Boeing Service Bulletin 767-27A0175, Revision 2.

Part Installation

(g) As of the effective date of this AD, no person may install, on any airplane, an aileron control quadrant override assembly that has not been modified in accordance with the requirements of this AD.

Alternative Methods of Compliance (AMOCs)

(h)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(i) You must use Boeing Alert Service Bulletin 767-27A0175, Revision 1, dated June 3, 2004; or Boeing Service Bulletin 767-27A0175, Revision 2, dated August 5, 2004; as applicable; to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 8, 2005.
Michael Zielinski,
Acting Manager, Transport Airplane Directorate, Aircraft Certification Service.

[FR Doc. 05-24054 Filed 12-15-05; 8:45 am]

BILLING CODE 4910-13-P